DEPARTMENT OF HOMELAND SECURITY

Federal Emergency Management Agency

44 CFR Part 67

[Docket ID FEMA-2008-0020; Internal Agency Docket No. FEMA-B-1031]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 23, 2009.

ADDRESSES: The corresponding preliminary Flood Insurance Rate Map (FIRM) for the proposed BFEs for each community are available for inspection at the community's map repository. The respective addresses are listed in the table below.

You may submit comments, identified by Docket No. FEMA-B-1031, to William R. Blanton, Jr., Chief, Engineering Management Branch, Mitigation Directorate, Federal Emergency Management Agency, 500 C Street SW., Washington, DC 20472, (202) 646-3151, or (e-mail) bill.blanton@dhs.gov.

FOR FURTHER INFORMATION CONTACT: William R. Blanton, Jr., Chief, Engineering Management Branch, Mitigation Directorate, Federal Emergency Management Agency, 500 C Street SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Audrain County, Missouri, and Incorporated Areas
Davis Creek | Just downstream of County Highway 15/Paris Road | None | +735 | Unincorporated Areas of Audrain County.
| At Kentucky Road | None | +739
South Fork Salt River | At County Highway J | None | +735 | Unincorporated Areas of Audrain County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Audrain County
Maps are available for inspection at County Courthouse, 101 North Jefferson Street, Mexico, MO 65265.
Camden County, Missouri, and Incorporated Areas
Grand Glaize River | At Highway 54 | None | +664 | Unincorporated Areas of Camden County, City of Osage Beach.
| Approximately 10.5 miles upstream of Highway 54 | None | +665
Linn Creek | At confluence with Osage River | None | +664 | Unincorporated Areas of Camden County, City of Linn Creek.
| At confluence with Linn Creek North Fork | None | +674
Linn Creek North Fork | At confluence with Linn Creek | None | +674 | Unincorporated Areas of Camden County, City of Linn Creek.
| Approximately 0.9 miles upstream of confluence with Linn Creek | None | +693
Linn Creek South Fork | At Locust Street | None | +695 | Unincorporated Areas of Camden County, City of Linn Creek.
| At Highway 54 | None | +710
Little Niangua River | At confluence with Niangua River | None | +664 | Unincorporated Areas of Camden County.
| At Highway J | None | +673
Niangua River | At Highway 5 | None | +664 | Unincorporated Areas of Camden County.
| At Tunnel Dam | None | +732
Osage River | At Highway MM | None | +664 | Unincorporated Areas of Camden County, City of Osage Beach, City of Sunrise Beach, Village of Four Seasons.
| At Highway 5 | None | +664
| Approximately 36 miles upstream of Highway 5 | None | +666
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Linn Creek
Maps are available for inspection at City Hall, 102 E Valley Drive, Linn Creek, MO 65052.
City of Osage Beach
Maps are available for inspection at City Hall, 1000 City Parkway, Osage Beach, MO 65065.
City of Sunrise Beach
Maps are available for inspection at Camden County Courthouse, 1 Court Circle, Camdenton, MO 65020.
Unincorporated Areas of Camden County
Maps are available for inspection at Camden County Courthouse, 1 Court Circle, Camdenton, MO 65020.
Village of Four Seasons
Maps are available for inspection at City Hall, 133 Cherokee Road, Four Seasons, MO 65049.
Greene County, Missouri, and Incorporated Areas
Galloway Creek | US Highway 60 Access Ramp | +1,155 | +1154 | City of Springfield.
| East Seminole Street | None | +1,301
Jordan Creek | West Bennett Street | +1,222 | +1,223 | City of Springfield.
| North Washington Avenue | +1,274 | +1,277
North Branch Jordan Creek | East Brower Street | +1,282 | +1,281 | City of Springfield.
| North Freemont Avenue | +1,311 | +1,312
| North Yates Avenue | None | +1,356
South Branch Jordan Creek | North Sherman Avenue | +1,276 | +1,283 | City of Springfield.
| North Patterson Avenue | +1,329 | +1,330
South Creek | US Highway 160/County Highway FF | +1,159 | +1,162 | City of Springfield, Unincorporated Areas of Greene County.
| South Golden Avenue | +1,209 | +1,210
| South Kickapoo Avenue | +1,305 | +1,307
Ward Branch | South Farm Road 139/County Road 139 | +1,113 | +1,114 | City of Springfield, Unincorporated Areas of Greene County.
| East Republic Street | +1,218 | +1,217
| East Independence Street | None | +1,251
Yarbrough Creek | West Lakewood Street | None | +1,187 | City of Springfield, Unincorporated Areas of Greene County.
| East Buena Vista Street | +1,208 | +1,207
| Just upstream (west of) and adjacent to South Campbell Avenue/Highway 100 | +1,233 | +1,212
* National Geodetic Vertical Datum.
+ North American Vertical Datum.
# Depth in feet above ground.
** BFEs to be changeinclude the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Springfield
Maps are available for inspection at 840 Boonville Avenue, Springfield, MO 65801.
Unincorporated Areas of Greene County
Maps are available for inspection at 940 Boonville Street, Springfield, MO 65802.
Platte County, Nebraska, and Incorporated Areas
Loup River | Approximately 1.4 miles upstream of the confluence with Platte River | None | +1,432 | City of Columbus.
| United States Highway 81 | None | +1,447
Platte River | At the Platte/Colfax county boundary | None | +1,411 | City of Columbus, Unincorporated Areas of Platte County.
| Approximately 4.1 miles upstream of the Platte/Colfax county boundary | None | +1,430
* National Geodetic Vertical Datum.
+ North American Vertical Datum.
# Depth in feet above ground.
** BFEs to be changeinclude the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Columbus
Maps are available for inspection at City Hall, 2424 14th Street, Columbus, NE 68602.
Unincorporated Areas of Platte County
Maps are available for inspection at Courthouse, 2610 14th Street, Columbus, NE 68601.
Lancaster County, Nebraska, and Incorporated Areas
Beal Slough | Approximately 463 feet downstream of South 70th Street | None | +1,295 | City of Lincoln.
| Approximately 170 feet upstream of South 84th Street | None | +1,376
Cardwell Branch | Approximately 3,700 feet upstream of SW 27th Street | None | +1,209 | City of Lincoln.
| Approximately 2,670 feet upstream of SW 40th Street | None | +1,221
Cardwell Branch Tributary | Approximately 84 feet upstream of West Cardwell Road | None | +1,203 | City of Lincoln., Unincorporated Areas of Lancaster County.
| Approximately 1,890 feet upstream of Saltillo Road | None | +1,313
Colonial Heights Tributary | At the confluence with Beal Slough | None | +1,230 | City of Lincoln.
| Approximately 2,050 feet upstream of the confluence with Beal Slough | None | +1,245
End Run | At the confluence with Ash Hollow Ditch | None | +1,119 | City of Waverly.
| Approximately 1,062 feet upstream of Amberly Road | None | +1,130
Little Salt Creek | Approximately 1,040 feet upstream of the confluence with Salt Creek | None | +1,139 | City of Lincoln.
| Approximately 656 feet upstream of Arbor Road | None | +1,139
Northeast Tributary to Southeast Upper Salt Creek | At the confluence with Southeast Upper Salt Creek | None | +1,231 | City of Lincoln.
| Approximately 559 feet upstream of Rebel Drive | None | +1,294
Pine Lake Tributary | At the confluence with Beal Slough | None | +1,276 | City of Lincoln.
| Approximately 822 feet upstream of Ashbrook Drive | None | +1,313
Salt Creek | Approximately 5,010 feet upstream of Warlick Boulevard | None | +1,175 | City of Lincoln.
| Approximately 3,709 feet upstream of Saltillo Road | None | +1,199
South Branch | At the confluence with Beal Slough | None | +1,299 | City of Lincoln.
| Approximately 3,900 feet upstream of Yankee Hill Road | None | +1,332
South Tributary to Southeast Upper Salt Creek | At the confluence with Southeast Upper Salt Creek | None | +1,195 | City of Lincoln.
| Approximately 4,278 feet upstream of South 38th Street | None | +1,257
Southeast Upper Salt Creek Tributary to Salt Creek | Confluence with Salt Creek | None | +1,192 | City of Lincoln.
| Approximately 785 feet upstream of South 66th Street | None | +1,321
Stevens Creek | Approximately 1,400 feet downstream of Yankee Hill Road | None | +1,289 | City of Lincoln.
| Approximately 1,313 feet upstream of State Highway 2 | None | +1,363
Stevens Creek Tributary 105 | At the confluence with Stevens Creek Tributary 5 | None | +1,140 | City of Lincoln.
| Approximately 2,445 feet upstream of Havelock Road | None | +1,191
Stevens Creek Tributary 110 | At the confluence with Stevens Creek Tributary 10 | None | +1,162 | City of Lincoln.
| Approximately 362 feet upstream of Leighton Avenue | None | +1,192
Stevens Creek Tributary 1,150 | At the confluence with Stevens Creek Tributary 150 | None | +1,219 | City of Lincoln.
| Approximately 2,875 feet upstream of the onfluence with Stevens Creek Tributary 150 | None | +1,246
Stevens Creek Tributary 1270 | Approximately 2,879 feet upstream of County Road | None | +1,237 | Unincorporated Areas of Lancaster County.
| Approximately 2,879 feet upstream of County Road | None | +1,304
Stevens Creek Tributary 130 | At the confluence with Stevens Creek Tributary 30 | None | +1,201 | City of Lincoln.
| Approximately 1,025 feet upstream of North 98th Street | None | +1,213
Stevens Creek Tributary 135 | At the confluence with Stevens Creek Tributary 35 | None | +1,176 | City of Lincoln.
| Approximately 3,325 feet upstream of the confluence with Stevens Creek Tributary 35 | None | +1,220
Stevens Creek Tributary 145 | At the confluence with Stevens Creek Tributary 45 | None | +1,188 | City of Lincoln.
| Approximately 2,050 feet upstream of the confluence with Stevens Creek Tributary 45 | None | +1,207
Stevens Creek Tributary 15 | At the confluence with Stevens Creek | None | +1,152 | City of Lincoln.
| Approximately 3,155 feet upstream of North 102nd Street | None | +1,183
Stevens Creek Tributary 150 | At the confluence with Stevens Creek Tributary 50 | None | +1,190 | Unincorporated Areas of Lancaster County.
| Approximately 1.4 miles upstream of the confluence with Stevens Creek Tributary 2150 | None | +1,293
Stevens Creek Tributary 160 | At the confluence with Stevens Creek Tributary 60 | None | +1,224 | City of Lincoln.
| Approximately 1,686 feet upstream of South 112th Street | None | +1,286
Stevens Creek Tributary 170 | At the confluence with Stevens Creek Tributary 70 | None | +1,217 | Unincorporated Areas of Lancaster County.
| Approximately 1,221 feet upstream of Van Dorn Street | None | +1,239
Stevens Creek Tributary 185 | At the confluence with Stevens Creek Tributary 85 | None | +1,252 | Unincorporated Areas of Lancaster County.
| Approximately 3,100 feet upstrea of the confluence with Stevens Creek Tributary 85 | None | +1,282
Stevens Creek Tributary 196 | At the confluence with Stevens Creek Tributary 96 | None | +1,278 | City of Lincoln.
| Approximately 4,350 feet upstream of the confluence with Stevens Creek Tributary 96 | None | +1,324
Stevens Creek Tributary 20 | At the confluence with Stevens Creek | None | +1,156 | City of Lincoln.
| Approximately 4,300 feet upstream of North 112th Street | None | +1,216
Stevens Creek Tributary 2150 | At the confluence with Stevens Creek Tributary 150 | None | +1,246 | Unincorporated Areas of Lancaster County.
| Approximately 2,625 feet upstream of O Street | None | +1,307
Stevens Creek Tributary 2270 | At the confluence with Stevens Creek Tributary 270 | None | +1,263 | Unincorporated Areas of Lancaster County.
| Approximately 3,500 feet upstream of the confluence with Stevens Creek Tributary 270 | None | +1,297
Stevens Creek Tributary 245 | At the confluence with Stevens Creek Tributary | None | +1,205 | City of Lincoln.
| Approximately 1,486 feet upstream of South 112th Street | None | +1,224
Stevens Creek Tributary 25 | At the confluence with Stevens Creek | None | +1165 | City of Lincoln.
| Approximately 2,947 feet upstream of South 112th Street | None | +1,207
Stevens Creek Tributary 250 | At the confluence with Stevens Creek Tributary 50 | None | +1,202 | City of Lincoln.
| Approximately 2,077 feet upstream of Holdrege Street | None | +1,272
Stevens Creek Tributary 260 | At the confluence with Stevens Creek Tributary 60 | None | +1,241 | City of Lincoln.
| Approximately 218 feet upstream of Old Cheney Road | None | +1,288
Stevens Creek Tributary 270 | At the confluence with Stevens Creek Tributary 70 | None | +1,233 | Unincorporated Areas of Lancaster County.
| Approximately 4,300 feet upstream of the confluence with Stevens Creek Tributary 2270 | None | +1,302
Stevens Creek Tributary 296 | At the confluence with Stevens Creek Tributary 96 | None | +1,323 | City of Lincoln.
| Approximately 4,000 feet upstream of the confluence with Stevens Creek Tributary 96 | None | +1,343
Stevens Creek Tributary 30 | Approximately 900 feet upstream of the confluence with Stevens Creek | None | +1,160 | City of Lincoln.
| Approximately 419 feet upstream of Anthony Lane | None | +1,233
Stevens Creek Tributary 345 | At the confluence with Stevens Creek Tributary 45 | None | +1,216 | City of Lincoln.
| Approximately 2,450 feet upstream of the confluence with Stevens Creek Tributary 45 | None | +1,225
Stevens Creek Tributary 35 | At the confluence with Stevens Creek | None | +1,175 | City of Lincoln.
| Approximately 1.0 miles upstream of Holdrege Street | None | +1,249
Stevens Creek Tributary 350 | At the confluence with Stevens Creek Tributary 50 | None | +1,251 | Unincorporated Areas of Lancaster County.
| Approximately 2,700 feet upstream of the confluence with Stevens Creek Tributary 50 | None | +1,281
Stevens Creek Tributary 360 | At the confluence with Stevens Creek Tributary 60 | None | +1,252 | City of Lincoln.
| Approximately 1,893 feet upstream of South 112th Stree | None | +1,297
Stevens Creek Tributary 396 | At the confluence with Stevens Creek Tributary 96 | None | +1,337 | City of Lincoln.
| Approximately 2,000 feet upstream of the confluence with Stevens Creek Tributary 96 | None | +1,362
Stevens Creek Tributary 40 | At the confluence with Stevens Creek | None | +1,179 | City of Lincoln.
| Approximately 1,491 feet upstream of South 112th Street | None | +1,203
Stevens Creek Tributary 40A | At the confluence with Stevens Creek Tributary 40 | None | +1,178 | City of Lincoln.
| Divergence from Stevens Creek Tributary 40 | None | +1,185
Stevens Creek Tributary 445 | At the confluence with Stevens Creek Tributary 45 | None | +1,220 | City of Lincoln.
| Approximately 2,425 feet upstream of 84th Street | None | +1,284
Stevens Creek Tributary 45 | Just upstream of Van Dorn Street | None | +1,247 | City of Lincoln.
| Approximately 820 feet upstream of South 98th Street | None | +1,286
Stevens Creek Tributary 460 | At the confluence with Stevens Creek Tributary 60 | None | +1,268 | City of Lincoln.
| Approximately 1.0 miles upstream of the confluence with Stevens Creek Tributary 60 | None | +1,322
Stevens Creek Tributary 5 | At the confluence with Stevens Creek Main Channel | None | +1,131 | City of Lincoln.
| Approximately 1.0 miles upstream of Havelock Avenue | None | +1,208
Stevens Creek Tributary 50 | At the confluence with Stevens Creek | None | +1,185 | City of Lincoln, Unincorporated Areas of Lancaster County.
| Approximately 3,700 feet upstream of Holdrege Street | None | +1,295
Stevens Creek Tributary 545 | At the confluence with Stevens Creek Tributary 45 | None | +1,236 | City of Lincoln.
| Approximately 3,750 feet upstream of South 98th Street | None | +1,276
Stevens Creek Tributary 55 | At the confluence with Stevens Creek | None | +1,194 | City of Lincoln.
| Approximately 1,825 feet upstream of South 134th Street | None | +1,234
Stevens Creek Tributary 60 | At the confluence with Stevens Creek | None | +1,196 | City of Lincoln.
| Approximately 1.8 miles upstream of Old Cheney Road | None | +1,321
Stevens Creek Tributary 65 | At the confluence with Stevens Creek | None | +1,204 | City of Lincoln.
| Approximately 2,075 feet upstream of South 134th Street | None | +1,233
Stevens Creek Tributary 7 | At the confluence with Stevens Creek | None | +1,141 | City of Lincoln.
| Approximately 1,875 feet upstream of the confluence with Stevens Creek | None | +1,158
Stevens Creek Tributary 70 | At the confluence with Stevens Creek | None | +1,208 | Unincorporated Areas of Lancaster County , City of Lincoln.
| Approximately 1.7 miles upstream of Van Dorn Street | None | +1,300
Stevens Creek Tributary 75 | At the confluence with Stevens Creek | None | +1,217 | City of Lincoln, Unincorporated Areas of Lancaster County.
| Approximately 140 feet upstream of Pioneers Boulevard | None | +1,264
Stevens Creek Tributary 80 | At the confluence with Stevens Creek | None | +1,223 | City of Lincoln.
| Approximately 2,750 feet upstream of the confluence with Stevens Creek | None | +1,261
Stevens Creek Tributary 85 | At the confluence with Stevens Creek | None | +1,226 | City of Lincoln, Unincorporated Areas of Lancaster County.
| Approximately 1.0 miles upstream of Old Cheney Road | None | +1,300
Stevens Creek Tributary 88 | At the confluence with Stevens Creek | None | +1,229 | City of Lincoln.
| Approximately 50 feet upstream of Old Cheney Road | None | +1,243
Stevens Creek Tributary 90 | At the confluence with Stevens Creek | None | +1,241 | City of Lincoln.
| Approximately 3,550 feet upstream of the confluence with Stevens Creek | None | +1,277
Stevens Creek Tributary 92 | At the confluence with Stevens Creek | None | +1,245 | City of Lincoln.
| Approximately 1,400 feet upstream of Pleasant Hill Road | None | +1,273
Stevens Creek Tributary 94 | At the confluence with Stevens Creek | None | +1,264 | City of Lincoln.
| Approximately 2,000 feet upstream of Yankee Hill Road | None | +1,318
Stevens Creek Tributary 96 | At the confluence with Stevens Creek | None | +1,272 | City of Lincoln.
| Approximately 3,150 feet upstream of Yankee Hill Road | None | +1,378
Stevens Creek Tributary 98 | At the confluence with Stevens Creek | None | +1,295 | City of Lincoln.
| Approximately 3,900 feet upstream of Yankee Hill Road | None | +1,333
Stevens Creek Overflow Tributary 5 | At the confluence with Stevens Creek Overflow | None | +1,138 | City of Lincoln.
| Approximately 3,500 feet upstream of the confluence with Stevens Creek Overflow | None | +1,157
Stevens Creek Tributary 10 | At the confluence with Stevens Creek | None | +1,151 | City of Lincoln.
| Approximately 2,552 feet upstream of Leighton Avenue | None | +1,224
Tierra Branch/Cripple Creek | At the confluence with Beal Slough | None | +1,195 | City of Lincoln.
| Approximately 970 feet upstream of Fir Hollow Lane | None | +1,272
Tributary 1 to Southeast Upper Salt Creek | At the confluence with Southeast Upper Salt Creek | None | +1,225 | City of Lincoln.
| Approximately 500 feet upstream of South 40th Street | None | +1,235
Tributary 2 to Southeast Upper Salt Creek | At the confluence with Southeast Upper Salt Creek | None | +1,261 | City of Lincoln.
| Approximately 2,180 feet upstream of Newcastle Road | None | +1,283
Tributary 3 to Southeast Upper Salt Creek | At the confluence with Southeast Upper Salt Creek | None | +1,290 | City of Lincoln.
| Approximately1,530 feet upstream of Rokeby Road | None | +1,309
Tributary 4 to South Tributary to Southeast Upper Salt Creek | At the confluence with South Tributary to Southeast Upper Salt Creek | None | +1,199 | City of Lincoln.
| Approximately 420 feet upstream of South 38th Street | None | +1,225
Unnamed Tributary 2 | At the confluence with Salt Creek | None | +1,110 | City of Waverly.
| Approximately 540 feet upstream of North 148th Street | None | +1,118
Wilderness Hills Tributary to Southeast Upper Salt Creek | At the confluence with Southeast Upper Salt Creek | None | +1,208 | City of Lincoln.
| Approximately 1,10 feet upstream of the confluence with Southeast Upper Salt Creek | None | +1,219
Williamsburg Tributary | At the confluence with Tieraa Branch | None | +1,219 | City of Lincoln.
| Approximately 700 feet upstream of Williamsburg Drive | None | +1,238
* National Geodetic Vertical Datum.
+ North American Vertical Datum.
# Depth in feet above ground.
** BFEs to be changeinclude the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Lincoln
Maps are available for inspection at Building & Safety Department, 555 South 10th Street, Lincoln, NE 68508.
City of Waverly
Maps are available for inspection at City Hall, 14130 Lancashire Street, Waverly, NE 68462.
Unincorporated Areas of Lancaster County
Maps are available for inspection at Building & Safety Department, 555 South 10th Street, Lincoln, NE 68508.

(Catalog of Federal Domestic Assistance No. 97.022, “Flood Insurance.”)

Dated: January 8, 2009.
Michael K. Buckley,
Acting Assistant Administrator, Mitigation Directorate, Department of Homeland Security, Federal Emergency Management Agency.

[FR Doc. E9-6642 Filed 3-24-09; 8:45 am]

BILLING CODE 9110-12-P